DEPARTMENT OF COMMERCE

National Oceanic and Atmospheric Administration

[I.D. 070500A]

State of Alaska Commercial Operator's Annual Report (COAR)

AGENCY: National Marine Fisheries Service (NMFS), National Oceanic and Atmospheric Administration (NOAA), Commerce.

ACTION: Proposed information collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before September 8, 2000.

ADDRESSES: Direct all written comments to Linda Engelmeier, Departmental Forms Clearance Officer, Department of Commerce, Room 6086, 14th and Constitution Avenue NW, Washington, DC 20230 (or via Internet at lengelme@doc.gov).

FOR FURTHER INFORMATION CONTACT: Requests for additional information or copies of the information collection instrument(s) and instructions should be directed to Patsy A. Bearden, National Marine Fisheries Service, Alaska Region, P.O. Box 21668, Juneau, Alaska 99802, telephone number 907-586-7008.

SUPPLEMENTARY INFORMATION:

I. Abstract

Existing recordkeeping and reporting requirements for participants in the groundfish fisheries of the exclusive economic zone off Alaska (Bering Sea and Aleutian Islands and the Gulf of Alaska) would be revised to require owners of catcher/processors and motherships to complete the State of Alaska, Department of Fish and Game (ADF&G) Commercial Operator's Annual Report (COAR), which provides information on ex-vessel and first wholesale values for statewide fish and shellfish products. This information currently is submitted to ADF&G by shoreside processors under State of Alaska regulations. The intent of this data collection is to require at-sea groundfish processors to submit these reports as well.

II. Method of Collection

ADF&G would provide the COAR to each mothership and catcher/processor on an annual basis to collect information from the previous year. The completed COAR and certification page would be sent by the processor to ADF&G for computer data entry. If no receipt or production took place, the processor would submit only a certification page that indicates no receipt or production took place for that year. Use of the COAR information would be coordinated between NMFS and the State of Alaska.

III. Data

OMB Number: None.

Form Number: None.

Type of Review: Regular submission.

Affected Public: Business and other for-profit organizations.

Estimated Number of Respondents: 134.

Estimated Time Per Response: 8 hours.

Estimated Total Annual Burden Hours: 1,072.

Estimated Total Annual Cost to Public: $268.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 30, 2000.
Madeleine Clayton,
Management Analyst, Office of the Chief Information Officer.

[FR Doc. 00-17373; Filed 7-7-00; 8:45 am]

BILLING CODE 3510-22-F